INTERNATIONAL TRADE COMMISSION

Request for Comments Concerning the Institution of a Section 751(B) Review Investigation on Polychloroprene Rubber From Japan

AGENCY: United States International Trade Commission.

ACTION: Request for comments regarding the institution of a section 751(b) review investigation concerning the Commission's affirmative determination in investigation No. AA1921-129, Polychloroprene Rubber from Japan.

SUMMARY: The Commission invites comments from the public on whether changed circumstances exist sufficient to warrant the institution of an investigation pursuant to section 751(b) of the Tariff Act of 1930 (19 U.S.C. 1675(b)) (the Act) to review the Commission's affirmative determination in investigation No. AA1921-129. The purpose of the proposed review investigation is to determine whether revocation of the existing antidumping finding on imports of polychloroprene rubber from Japan is likely to lead to continuation or recurrence of material injury to an industry in the United States (19 U.S.C. 1675(b)(2)(A)). Polychloroprene rubber is provided for in subheadings 4002.41, 4002.49, and 4003.00 of the Harmonized Tariff Schedule of the United States.

EFFECTIVE DATE: December 27, 2005.

FOR FURTHER INFORMATION CONTACT: George Deyman (202-205-3197), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this proposed investigation may be viewed on the Commission's electronic docket (EDIS) at http://edis.usitc.gov.

SUPPLEMENTARY INFORMATION:

Background.—On July 31, 1973, the Treasury Department (Treasury) determined that imports of polychloroprene rubber from Japan are being sold in the United States at less than fair value (LTFV) within the meaning of the Antidumping Act, 1921, as amended (19 U.S.C. 160 et seq.) (38 FR 20630, August 2, 1973), and on October 31, 1973, the Commission determined, within the meaning of the Antidumping Act, 1921, as amended, that an industry in the United States is being, or is likely to be, injured by reason of imports of such LTFV merchandise. Accordingly, Treasury ordered that antidumping duties be imposed on such imports (38 FR 33593, December 6, 1973). On December 8, 1998, the Commerce Department (Commerce) determined that revocation of the antidumping finding on polychloroprene rubber from Japan would be likely to lead to continuation or recurrence of dumping (63 FR 67656, December 8, 1998), and on July 30, 1999, the Commission determined that revocation of the antidumping finding would be likely to lead to continuation or recurrence of material injury to an industry in the United States within a reasonably foreseeable time (64 FR 41458, July 30, 1999, and 64 FR 42962, August 6, 1999). Accordingly, Commerce ordered that the antidumping finding be continued (64 FR 47765, September 1, 1999). On November 4, 2004, Commerce determined that revocation of the antidumping finding on polychloroprene rubber from Japan would be likely to lead to continuation or recurrence of dumping (69 FR 64276, November 4, 2004), and on July 21, 2005, the Commission determined that revocation of the antidumping finding would be likely to lead to continuation or recurrence of material injury to an industry in the United States within a reasonably foreseeable time (70 FR 42101, July 21, 2005). Accordingly, Commerce again ordered that the antidumping finding be continued (70 FR 44893, August 4, 2005).

On November 22, 2005, the Commission received a request to review its affirmative determination in investigation No. AA-1921-129 pursuant to section 751(b) of the Act (19 U.S.C. 1675(b)). The request was filed by The Gates Corp. (Gates), Denver, CO. Gates alleges that the October 2005 announcement by the Italian firm Polimeri Europa (“Polimeri”), one of the world's largest producers of polychloroprene rubber, that it was permanently closing its sole manufacturing plant is a fundamental change that constitutes changed circumstances sufficient to warrant review of the antidumping finding. Specifically, Gates contends that this development “represents a very important change in the status quo,” that the loss of a supplier of this magnitude will have a major impact on the availability of supply and conditions of competition of polychloroprene rubber, that continuation of the antidumping finding undermines access to polychloroprene rubber, and that revocation of the antidumping finding is not likely to result in the continuation or recurrence of material injury to the domestic polychloroprene rubber industry.

Written comments requested.—Pursuant to section 207.45(b) of the Commission's Rules of Practice and Procedure, the Commission requests comments concerning whether the alleged changed circumstances, brought about by the closing of Polimeri's sole polychloroprene rubber plant, are sufficient to warrant institution of a review investigation.

Written submissions.—Comments must be filed with the Secretary to the Commission no later than 45 days after the date of publication of this notice in the Federal Register. All written submissions must conform with the provisions of section 201.8 of the Commission's rules; any submissions that contain business proprietary information must also conform with the requirements of sections 201.6, 207.3, and 207.7 of the Commission's rules. The Commission's rules do not authorize filing of submissions with the Secretary by facsimile or electronic means, except to the extent permitted by section 201.8 of the Commission's rules, as amended, 67 FR 68036 (November 8, 2002). Even where electronic filing of a document is permitted, certain documents must also be filed in paper form, as specified in II(C) of the Commission's Handbook on Electronic Filing Procedures, 67 FR 68168, 68173 (November 8, 2002).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Authority: This notice is published pursuant to section 207.45 of the Commission's rules.

Issued: December 20, 2005.
By order of the Commission.
Marilyn R. Abbott,
Secretary to the Commission.

[FR Doc. E5-7823 Filed 12-23-05; 8:45 am]

BILLING CODE 7020-02-P